DEPARTMENT OF LABOR

Employment and Training Administration

[TA-W-55,887]

Woodbridge Corporation, Whitmore Lake, MI; Notice of Termination of Investigation

Pursuant to Section 221 of the Trade Act of 1974, an investigation was initiated on October 29, 2004 in response to a worker petition which was filed by a company official on behalf of workers at Woodbridge Corporation, Whitmore Lake, Michigan.

The petitioner has requested that the petition be withdrawn. Consequently, the investigation has been terminated.

Signed in Washington, DC this 24th day of November, 2004.
Richard Church,
Certifying Officer, Division of Trade Adjustment Assistance.

[FR Doc. E4-3583 Filed 12-8-04; 8:45 am]

BILLING CODE 4510-30-P